ENVIRONMENTAL PROTECTION AGENCY

[EPA-HQ-OAR-2025-0097; FRL-12673-01-OAR]

Agency Information Collection Activities; Proposed Information Collection Request; Comment Request; Renewable Fuel Standard (RFS) Program, EPA ICR No. 2546.04, OMB Control Number 2060-0725

AGENCY: Environmental Protection Agency (EPA).

ACTION: Notice.

SUMMARY: The Environmental Protection Agency (EPA) is planning to submit an information collection request (ICR), Renewable Fuel Standard (RFS) Program (EPA ICR Number 2546.04, OMB Control Number 2060-0725), to the Office of Management and Budget (OMB) for review and approval in accordance with the Paperwork Reduction Act. Before doing so, EPA is soliciting public comments on specific aspects of the proposed information collection as described below. This is a proposed extension of the ICR, which is currently approved through November 30, 2025. This notice allows for 60 days for public comments.

DATES: Comments must be submitted on or before June 30, 2025.

ADDRESSES: Submit your comments, referencing Docket ID Number EPA-HQ-OAR-2025-0097, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Anne-Marie C. Pastorkovich, Office of Air and Radiation, Mail Code 6405A, Environmental Protection Agency, 1200 Pennsylvania Ave. NW, Washington, DC 20460; telephone number: 202-343-9623; email address: pastorkovich.anne-marie@epa.gov.

SUPPLEMENTARY INFORMATION: This is a proposed extension of the ICR, which is currently approved through November 30, 2025. An agency may not conduct or sponsor, and a person is not required to respond to, a collection of information unless it displays a currently valid OMB control number.

This document allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract

This ICR is for general registration, recordkeeping, and reporting under the Renewable Fuel Standard (RFS) program, required by Clean Air Act and implementing regulations in 40 CFR parts 80 and 1090. The RFS program relies upon marketable credits (RINs) to function, which necessitates recordkeeping and reporting to establish type and number of RINs generated, sold, retired, etc. EPA provides the secure systems that respondents use to register, submit compliance reports, and transact RINs, which removes a burden from industry. EPA uses the information to monitor compliance with RFS and to ensure the integrity of the RIN market and to ensure the integrity of the RIN market.

Form Numbers: RFS0107 (5900-631), RFS0304 (5900-492), RFS0500(5900-493), RFS0602 (5900-290), RFS0702 (5900-289), RFS0801 (5900-293), RFS0902 (5900-278), RFS1000 (5900-335), RFS1200 (5900-337), RFS1300 (5900-262), RFS1400 (5900-354), RFS1500 (5900-355), RFS1600 (5900-356), RFS1701 (5900-632), RFS2001 (5900-633), RFS2101 (5900-634), RFS2201 (5900-635), RFS2301 (5900-636), RFS2400 (5900-361), RFS2500 (5900-374), RFS2700 (5900-373).

Respondents/affected entities: RIN Generators, Obligated Parties, RIN Owners, Exporters, QAP Providers, Petitioners for Aggregate Compliance, Third Parties.

Respondent's obligation to respond: mandatory under 40 CFR parts 80 and 1090.

Estimated number of respondents: 29,103 (total).

Frequency of response: quarterly, annually, on occasion.

Total estimated burden: 755,763 hours (per year). Burden is defined at 5 CFR 1320.03(b).

Total estimated cost: $21,126,078 (per year), which includes $0 annualized capital or operation & maintenance costs.

Changes in the Estimates: There is a decrease of 105,207 hours in the total estimated respondent burden compared with the ICR currently approved by OMB. This decrease is due to several factors. First, some of the burden in the existing ICR was for one-time burdens, such as initially programming codes, which existing parties will have already performed. Second, some of the burden in the existing ICR has been reduced through improvements in reporting methods initiated by EPA—for example, EPA has greatly improved its unified reporting format (URF) used for data entry in a manner that provides feedback to respondents and reduces errors and resubmissions. Third, EPA has reduced complexity by removing reporting steps and certain stand-alone forms.

Byron Bunker,
Director, Implementation, Analysis and Compliance Division.

[FR Doc. 2025-07486 Filed 4-29-25; 8:45 am]

BILLING CODE 6560-50-P